DEPARTMENT OF TRANSPORTATION

[Docket No. DOT-OST-2008-0182]

Office of Small and Disadvantaged Business Utilization (OSDBU); Regional Small Business Transportation Resource Centers (SBTRCs); Notice of Request for Comments on Renewal of Information Collection: Regional Center Intake Form (DOT F 4500) and Regional Resource Center Monthly Report Form (DOT F 4502) (Formerly, Counseling Information Form; Regional Center Intake Form and Monthly Report of Operations Form)

AGENCY: Office of the Secretary, Department of Transportation (DOT).

ACTION: Notice and request for comments.

SUMMARY: The Office of Small and Disadvantaged Business Utilization (OSDBU) invites the public to comment about our intention to request the Office of Management and Budget's (OMB) approval to renew information collection forms, associated with OSDBU.

We are required to publish this notice in the Federal Register by the Paperwork Reduction Act of 1995. On June 26, 2008, OSDBU published a 60-day notice in the Federal Register (73 FR 36368), Docket #OST-2008-0182, informing the public of OSDBU's intention to extend this previously approved information collection.

The collection involves the use of the Regional Center Intake Form (DOT F 4500), which documents the type of assistance provided to each small business that is enrolled in the program.

The use of the Regional Resource Center Monthly Report Form (DOT F 4502) will highlight activities, such as counseling, marketing, meetings/conferences, and services to businesses as completed during the month. The information will be used to ascertain whether the program is providing services to its constituency, the small business community, in a fair and equitable manner. The information collected is necessary to determine whether small businesses are participating in DOT funded and DOT assisted opportunities with the DOT.

The Counseling Information Form (DOT F 4640.1) has been eliminated and the information contained in that form is now consolidated into the Regional Resource Center Monthly Report Form (formerly titled Monthly Report of Operations Form) in effort to eliminate duplication and to streamline the data collection process.

DATES: Written comments should be submitted by: October 27, 2008.

ADDRESSES: You may submit comments to the attention of the DOT/OST Desk Officer, Office of Information and Regulatory Affairs, Office of Management and Budget, Docket library, Room 10102, 725 17th Street, NW., Washington, DC 20503, or www.oira_submission@omb.eop.gov (e-mail).

FOR FURTHER INFORMATION CONTACT: Arthur D. Jackson, 202-366-5344, Office of Small and Disadvantaged Business Utilization, Office of the Secretary, U.S. Department of Transportation, 1200 New Jersey Avenue, SE., Room W56-462, Washington, DC 20590. Office hours are from 9 a.m. to 5 p.m., Monday through Friday, except Federal holidays.

SUPPLEMENTARY INFORMATION:

Title: Regional Center Intake Form (DOT F 4500) and Regional Resource Center Monthly Report Form (DOT F 4502) (Formerly, Counseling Information Form; Regional Center Intake Form and Monthly Report of Operations Form).

OMB Control No: 2105-0554.

Affected Public: Representatives of DOT Regional Small Business Transportation Resource Centers and the Small Businesses community on a national basis.

Type of Request: Renewal of information collection.

Abstract: In accordance with Public Law 95-507, an amendment to the Small Business Act and the Small Business Investment Act of 1953, OSDBU is responsible for the implementation and execution of the Department of Transportation (DOT) activities on behalf of small businesses, in accordance with Section 8, 15 and 31 of the Small Business Act (SBA), as amended. The Office of Small and Disadvantaged Business Utilization also administers the provisions of Title 49, of the United States Code, Section 332, the Minority Resource Center (MRC), which includes the duties of advocacy, outreach and financial services on behalf of small and disadvantaged businesses and those certified under CFR 49 Parts 23 and or 26 as Disadvantaged Business Enterprises (DBE).

The Small Business Transportation Resource Regional Centers (SBTRCs) will collect information on small businesses, which includes Disadvantaged Business Enterprise (DBE), Women-Owned Small Businesses (WOB), Small Disadvantaged Businesses (SDB), 8(a), Service Disabled Veteran Owned Businesses (SDVOB), Veteran Owned Small Businesses (VOSB), HubZone, and types of services they seek from the SBTRCs. Services and responsibilities of the SBTRCs include business analysis, general management and technical assistance and training, business counseling, outreach services/conference participation, and short-term loan assistance. The cumulative data collected will be analyzed by the OSDBU to determine the effectiveness of services provided, including counseling, outreach, and financial services. Such data will also be analyzed by the OSDBU to determine agency effectiveness in assisting small businesses to enhance their opportunities to participate in government contracts and subcontracts.

The Regional Center Intake Form (DOT F 4500) is used by the Regional SBTRC staff to enroll small business clients into the program in order to create a viable database of firms that can participate in government contracts and subcontracts, especially those projects that are transportation related. In addition, each enrolled small business will be assigned a client number that can track the firm's involvement in the services offered by the SBTRCs. Each area on the form must be filled in electronically by the SBTRCs and retained in secured files of the client. The completion of the form is used as a tool for making decisions about the needs of the business, such as referral to technical assistance agencies for help, identifying the type of profession or trade of the business, the type of certification that the business holds, length of time in business, and location of the firm.

The SBTRCs must complete an Intake Form and retain copies in secured files in their offices. A limited amount of privacy information is requested on this form. We have included a Privacy Act Notice on the forms, informing individuals who are asked to supply information on the form that Public Law 95-507 and provisions of Title 49, of the U.S. Code, Section 332, the Minority Resource Center authorizes solicitation of the information; that provision of the information is voluntary; that the principal purpose for which the information is intended to be used is to assist the SBTRCs in developing a business plan or adjusting a business plan for small businesses, in order to increase their ability to market goods and services to buyers and potential users, interested in small business services; that routine uses which DOT may make of the information include analyzing the data collected to determine the effectiveness of services to small businesses, provided by the SBTRCs, including counseling, outreach, and financial services. Also, the data collection will be used by OSDBU to document the type of assistance provided to each small business that uses the services of the SBTRCs; and that the effect on the individual of not providing all or any part of the requested information will not be a condition to deny services to the small business firm. Request for information about another party may be denied unless DOT has the written permission of the individual to release the information to the requestor or unless the information is subject to disclosure under the Freedom of Information Act. This will assist the SBTRCs in developing a business plan or adjusting their business plan to increase its ability to market its goods and services to buyers and potential users of their services.

Respondents: Small Business Transportation Resource Centers.

Estimated Number of Respondents: 100.

Frequency: The information will be collected monthly.

Estimated Total Burden on Respondents: 600 hours.

The Regional Resource Center Monthly Report Form (DOT F 4502) for each SBTRC must submit a monthly status report of business activities conducted during the 30-day timeframe. The form is used to capture activities and accomplishments that were made by the Regional SBTRCs during the course of the month. In addition, the form includes a data collection section where numbers and hours are reported and a section that is assigned for a written narrative that provides back up that supports the data. Activities to be reported are (1) Counseling activity which identifies the counseling hours provided to businesses, number of new appointments, and follow-up on counseled clients. (2) Activity for businesses served identifies the type of small business that is helped, such as a DBE, 8(a), WOB, HubZone, SDB, SDVOB, or VOSB. (3) Marketing activity includes the name of an event attended by the SBTRC and the role played when participating in a conference, workshop or any other venue that relates to small businesses. (4) Meetings that are held with government representatives in the region, or at the state level, or an activity that is reported. (5) Events hosted by the SBTRCs, such as small business workshops, financial assistance workshops, matchmaking events, and activities that are reported on a monthly basis.

Respondents: Small Business Transportation Resource Centers.

Estimated Number of Respondents: 100.

Frequency: The information will be collected monthly.

Estimated Total Burden on Respondents: 1,200 hours.

Comments are invited on: (a) Whether the proposed collection of information is necessary for the proper performance of the functions of the Department, including whether the information will have practical utility; (b) the accuracy of the Departments estimate of the burden of the proposed information collection; (c) ways to enhance the quality, utility and clarity of the information collection; and (d) ways to minimize the burden of the collection of information on respondents, by the use of electronic means, including the use of automated collection techniques or other forms of information technology.

All responses to this notice will be summarized and included in the request for OMB approval. All comments will also become a matter of public record.

Issued in Washington, DC, on September 19, 2008.
Patricia Lawton,
DOT Clearance Officer, Office of the Chief Information Officer.

[FR Doc. E8-22633 Filed 9-25-08; 8:45 am]

BILLING CODE 4910-9X-P